DEPARTMENT OF JUSTICE

Antitrust Division

Notice Pursuant to the National Cooperative Research and Production Act of 1993—Z-Wave Alliance, Inc.

Notice is hereby given that, on July 16, 2021, pursuant to Section 6(a) of the National Cooperative Research and Production Act of 1993, 15 U.S.C. 4301 et seq. (the “Act”), Z-Wave Alliance, Inc. filed written notifications simultaneously with the Attorney General and the Federal Trade Commission disclosing changes in its membership. The notifications were filed for the purpose of extending the Act's provisions limiting the recovery of antitrust plaintiffs to actual damages under specified circumstances.

Specifically, Passiv UK Limited, Newbury, UNITED KINGDOM; Sybersense IOT, Millcreek, UT; POLYNHOME, Paris, FRANCE; Fermax Asia Pacific Pte Ltd, Braddell Tech, SINGAPORE; Power and Data Engineering, Alfords Point, AUSTRALIA; ImaGenius, Saugus, MA; Ochsner Clinic Foundation, New Orleans, LA; and Radios, Inc., Sanford, FL have joined as parties to the venture.

Also, PassivSystems Limited, Newbury, UNITED KINGDOM; Q-light, Kristiansand, NORWAY; Lera Smart Home Solutions, Minto, AUSTRALIA; ZWaveProducts.com, Inc., Randolph, NJ; VOLANSYS Technologies Pvt. Ltd., Santa Clara, CA; i4Things BV, DA Herten, THE NETHERLANDS; Airetec Pte Ltd, Primz Bizhub, SINGAPORE; Smart Home SA, Gland, SWITZERLAND; EcoNet Controls Inc., Burlington, CANADA; I2G D.O.O., Ljubljana, SLOVENIA; Dongguan Will Power Technology Co., Ltd, Guandong, PEOPLE'S REPUBLIC OF CHINA; Avant-Garde Technology Ltd, Abuja, NIGERIA; Insight Energy Ventures, LLC d/b/a Powerley, Royal Oak, MI; ROC-Connect, Inc., Palo Alto, CA; picard automation, San Francisco, CA; YATUN s.r.o., Praha, CZECH REPUBLIC; Transducers Direct, Cincinnati, OH; Tower Automation Pty Ltd, Dee Why, AUSTRALIA; Utilacor PTY LTD., Mount Evelyn, AUSTRALIA; Elektrizitätswerke des Kantons Zürich, Zurich, SWITZERLAND; Connection Technology Systems Inc. (SiMPNiC brand), New Taipei City, TAIWAN; Teracom Solutions Pty Ltd, Victoria, AUSTRALIA; TechniSat Digital GmbH, Daun, GERMANY; Ingenieurburo Hospe, Kelkheim, GERMANY; and Cassar & Son Industries L.L.C, Austin, TX have withdrawn as parties to the venture.

In addition, an existing member, There Corporation, Espoo, FINLAND, has changed its name to Trim Energy, Ltd.

No other changes have been made in the membership or the planned activity of this venture. Membership in this venture remains open, and Z-Wave Alliance, Inc. intends to file additional written notifications disclosing all changes in membership.

On November 19, 2020, Z-Wave Alliance, Inc. filed its original notification pursuant to Section 6(a) of the Act. The Department of Justice published a notice in the Federal Register pursuant to Section 6(b) of the Act on December 1, 2020 (85 FR 77241).

The last notification was filed with the Department on April 21, 2021. A notice was published in the Federal Register pursuant to Section 6(b) of the Act on May 11, 2021 (86 FR 25886).

Suzanne Morris,
Chief, Premerger and Division Statistics, Antitrust Division.

[FR Doc. 2021-18028 Filed 8-20-21; 8:45 am]

BILLING CODE 4410-11-P